DEPARTMENT OF HEALTH AND HUMAN SERVICES

Meeting of the National Biodefense Science Board

AGENCY: Office of the Secretary, Department of Health and Human Services.

ACTION: Notice.

SUMMARY: As stipulated by the Federal Advisory Committee Act, the U.S. Department of Health and Human Services is hereby giving notice that the National Biodefense Science Board (NBSB) will be holding a public meeting, followed by a closed portion of the meeting under exemption 9(B) of the Government in Sunshine Act, 5 U.S.C. 552b(c).

DATES: The February 2, 2012 NBSB public meeting is tentatively scheduled from 10:30 a.m. to 12:30 p.m. A portion of the public meeting will be closed and is tentatively scheduled from 2 p.m. to 5 p.m. The agenda is subject to change as priorities dictate. Please check the NBSB Web site for the most up-to-date information on the meeting.

ADDRESSES: Omni Shoreham Hotel, Palladian Ballroom, 2500 Calvert Street NW. (at Connecticut Ave.) Washington, District of Columbia 20008. To attend by teleconference, call 1-(866) 395-4129, pass-code “ASPR.” Please call 15 minutes prior to the beginning of the conference call to facilitate attendance. Pre-registration is required for in person public attendance. Individuals who wish to attend the meeting in person should send an email to NBSB@HHS.GOV with “NBSB Registration” in the subject line.

FOR FURTHER INFORMATION CONTACT: MacKenzie Robertson, Acting Executive Director, NBSB, Office of the Assistant Secretary for Preparedness and Response, U.S. Department of Health and Human Services; (202) 260-0447; fax (202) 205-8508; Email: NBSB@HHS.GOV.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary and/or the Assistant Secretary for Preparedness and Response on other matters related to public health emergency preparedness and response.

Background: A portion of this public meeting will be dedicated to swearing in the seven new voting members who will replace the members whose 4-year terms will expire on January 31, 2012. The Board will also be asked to review and evaluate the 2012 Public Health Emergency Medical Countermeasures Enterprise (PHEMCE) Strategy and Implementation Plan (SIP). Until a final document is approved by the Secretary of the Department of Health and Human Services (HHS), the development of PHEMCE SIP requires consideration and discussion of procurement-sensitive information that should not be released to the public prior to the Secretary's final decision. Premature public disclosure of the draft PHEMCE SIP would limit the Secretary's decision-making ability to effectively prioritize HHS expenditures on critical medical countermeasures. Therefore, the Board's deliberations on the new task will be conducted in closed session in accordance with provisions set forth under exemption 9(B) of the Government in Sunshine Act, 5 U.S.C. section 552b(c), and with approval by the Assistant Secretary for Preparedness and Response.

Availability of Materials: The meeting agenda and materials will be posted on the NBSB Web site at http://www.phe.gov/Preparedness/legal/boards/nbsb/Pages/default.aspx prior to the meeting.

Procedures for Providing Public Input: Any member of the public providing oral comments at the meeting must sign-in at the registration desk and provide his/her name, address, and affiliation. All written comments must be received prior to January 26, 2012 and should be sent by email to NBSB@HHS.GOV with “NBSB Public Comment” as the subject line. Individuals who plan to attend and need special assistance, such as sign language interpretation or other reasonable accommodations, should email NBSB@HHS.GOV.

Dated: January 3, 2012.
Nicole Lurie,
Assistant Secretary for Preparedness and Response.

[FR Doc. 2012-152 Filed 1-6-12; 8:45 am]

BILLING CODE 4150-37-P